DEPARTMENT OF ENERGY

Federal Energy Regulatory Commission

Combined Notice of Filings #1

Take notice that the Commission received the following electric rate filings:

Docket Numbers: ER12-309-003.

Applicants: Midwest Independent Transmission System Operator, Inc.

Description: 7-27-2012 Attachment X Queue Reform III Compliance Filing to be effective 1/1/2012.

Filed Date: 7/25/12.

Accession Number: 20120725-5028.

Comments Due: 5 p.m. ET 8/15/12.

Docket Numbers: ER12-1163-002.

Applicants: ATCO Power Canada Ltd.

Description: ATCO Compliance Filing of Revised Tariff and Request for Category 1 to be effective 7/20/2012.

Filed Date: 7/25/12.

Accession Number: 20120725-5000.

Comments Due: 5 p.m. ET 8/15/12.

Docket Numbers: ER12-1576-000.

Applicants: Florida Power & Light Company.

Description: Florida Power & Light Company Refund Report to be effective N/A.

Filed Date: 7/24/12.

Accession Number: 20120724-5117.

Comments Due: 5 p.m. ET 8/14/12.

Docket Numbers: ER12-2300-000.

Applicants: Public Service Company of Colorado.

Description: 2012-7-25-Att O-PSCo-Lower ROE to 10.25% to be effective 7/1/2011.

Filed Date: 7/25/12.

Accession Number: 20120725-5021.

Comments Due: 5 p.m. ET 8/15/12.

Docket Numbers: ER12-2301-000.

Applicants: Stream Energy New York, LLC.

Description: Application for Market-Based Rate Authority to be effective 9/23/2012.

Filed Date: 7/25/12.

Accession Number: 20120725-5027.

Comments Due: 5 p.m. ET 8/15/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 25, 2012.
Nathaniel J. Davis, Sr.,
Deputy Secretary.

[FR Doc. 2012-18981 Filed 8-2-12; 8:45 am]

BILLING CODE 6717-01-P